DEPARTMENT OF COMMERCE

Foreign-Trade Zones Board

(Docket 10-2008)

Foreign-Trade Zone 64 - Jacksonville, Florida, Application for Expansion, Correction/Clarification

The Federal Register notice published on March 7, 2008 (73 FR 12374) describing the application by the Jacksonville Port Authority, grantee of FTZ 64, requesting authority to include Temporary Site 1A on a permanent basis and to expand the zone to include an additional site in Jacksonville is corrected as follows:

In paragraph 3, the correct acreage for proposed Site 7 should read 47 acres.

The applicant is also requesting authority to delete 47 acres from Site 3 at the JPA Blount Island Terminal Complex, and Temporary Site 1A will be re-numbered as Site 8.

Dated: July 11, 2008.
Andrew McGilvray,
Executive Secretary.

[FR Doc. E8-16498 Filed 7-17-08; 8:45 am]

Billing Code: 3510-DS-S